DEPARTMENT OF ENERGY

Federal Energy Regulatory Commission

Combined Notice of Filings #1

Take notice that the Commission received the following electric corporate filings:

Docket Numbers: EC17-128-000.

Applicants: Beech Ridge Energy LLC, Beech Ridge Energy II LLC, Beech Ridge Energy Storage LLC, Bishop Hill Energy III LLC, Bishop Hill Interconnection LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC, Wolverine Creek Goshen Interconnection LLC.

Description: Supplement to June 8, 2017 Application for Authorization Under Section 203 of the Federal Power Act, et al. of Beech Ridge Energy LLC, et al.

Filed Date: 7/6/17.

Accession Number: 20170706-5172.

Comments Due: 5 p.m. ET 7/17/17.

Take notice that the Commission received the following electric rate filings:

Docket Numbers: ER10-2964-014.

Applicants: Selkirk Cogen Partners, L.P.

Description: Triennial Market Power Update of Selkirk Cogen Partners, L.P.

Filed Date: 6/30/17.

Accession Number: 20170630-5472.

Comments Due: 5 p.m. ET 8/29/17.

Docket Numbers: ER11-4573-001.

Applicants: Evergreen Community Power, LLC.

Description: Notice of Non-Material Change In Status for Evergreen Community Power, LLC.

Filed Date: 7/10/17.

Accession Number: 20170710-5316.

Comments Due: 5 p.m. ET 7/31/17.

Docket Numbers: ER17-1192-002.

Applicants: Otter Tail Power Company.

Description: Tariff Amendment: Amendment to Submit Restated Conforming Agreement—Rate Schedule No. 168 to be effective 7/30/2010.

Filed Date: 7/10/17.

Accession Number: 20170710-5251.

Comments Due: 5 p.m. ET 7/31/17.

Docket Numbers: ER17-2066-000.

Applicants: PJM Interconnection, L.L.C.

Description: § 205(d) Rate Filing: Pseudo-Tie Cost Reimbursement Agreements SA. Nos. 4751 and 4752 to be effective 7/8/2017.

Filed Date: 7/7/17.

Accession Number: 20170707-5162.

Comments Due: 5 p.m. ET 7/28/17.

Docket Numbers: ER17-2067-000.

Applicants: Midcontinent Independent System Operator, Inc., Ameren Illinois Company.

Description: § 205(d) Rate Filing: 2017-07-10 Ameren-Prairie Power Wholesale Connection and Umbrella Construction to be effective 6/8/2017.

Filed Date: 7/10/17.

Accession Number: 20170710-5252.

Comments Due: 5 p.m. ET 7/31/17.

Docket Numbers: ER17-2068-000.

Applicants: California Independent System Operator Corporation.

Description: § 205(d) Rate Filing: 2017-07-10 Operating Agreement between CAISO and MWD to be effective 10/1/2017.

Filed Date: 7/10/17.

Accession Number: 20170710-5295.

Comments Due: 5 p.m. ET 7/31/17.

Docket Numbers: ER17-2069-000.

Applicants: PJM Interconnection, L.L.C.

Description: Tariff Cancellation: Notice of Cancellation of Original Service Agreement No. 4430, Queue #AB1-099 to be effective 8/20/2017.

Filed Date: 7/10/17.

Accession Number: 20170710-5304.

Comments Due: 5 p.m. ET 7/31/17.

Docket Numbers: ER17-2070-000.

Applicants: PJM Interconnection, L.L.C.

Description: § 205(d) Rate Filing: Queue Position AA2-068, Original Service Agreement No. 4740 to be effective 6/20/2017.

Filed Date: 7/10/17.

Accession Number: 20170710-5319.

Comments Due: 5 p.m. ET 7/31/17.

Docket Numbers: ER17-2071-000.

Applicants: ITC Midwest LLC.

Description: § 205(d) Rate Filing: Filing of Amended and Restated Duane Arnold Energy Center Agreement to be effective 9/8/2017.

Filed Date: 7/10/17.

Accession Number: 20170710-5375.

Comments Due: 5 p.m. ET 7/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2017.
Nathaniel J. Davis, Sr.,
Deputy Secretary.

[FR Doc. 2017-14875 Filed 7-14-17; 8:45 am]

BILLING CODE 6717-01-P